DEPARTMENT OF LABOR

Employment and Training Administration

[TA-W-53,720]

Teleperformance USA, Butte, MT; Notice of Termination of Investigation

Pursuant to section 221 of the Trade Act of 1974, an investigation was initiated on December 5, 2003 in response to a petition filed by a company official on behalf of workers at Teleperformance USA, Butte, Montana.

The petitioner has requested that the petition be withdrawn. Consequently, the investigation has been terminated.

Signed in Washington, DC, this 16th day of December 2003.
Elliott S. Kushner,
Certifying Officer, Division of Trade Adjustment Assistance.

[FR Doc. 04-647 Filed 1-12-04; 8:45 am]

BILLING CODE 4510-30-P